DEPARTMENT OF EDUCATION

34 CFR Chapter II

[Docket ID ED-2015-OESE-0130]

Negotiated Rulemaking Committee; Schedule of Committee Meetings

AGENCY: Office of Elementary and Secondary Education, Department of Education.

ACTION: Intent to establish a negotiated rulemaking committee.

SUMMARY: On February 4, 2016, we announced our intention to establish a negotiated rulemaking committee prior to publishing proposed regulations to implement part A of title I, Improving Basic Programs Operated by Local Educational Agencies, of the Elementary and Secondary Education Act of 1965 (ESEA), as amended by the Every Student Succeeds Act (ESSA). We also announced the schedule for three sessions of committee meetings and the location for each of those meetings. We now announce a change of location for the meeting on the first day of the third session.

DATES: The dates, times, and locations of the committee meetings are set out in the Schedule for Negotiations section in the SUPPLEMENTARY INFORMATION section of this notice.

FOR FURTHER INFORMATION CONTACT: James Butler, U.S. Department of Education, 400 Maryland Avenue SW., Room 3W246, Washington, DC 20202. Telephone (202) 260-9737 or by email: OESE.ESSA.nominations@ed.gov.

For general information about the negotiated rulemaking process, see The Negotiated Rulemaking Process for the Every Student Succeeds Act—Frequently Asked Questions, available at http://www2.ed.gov/policy/elsec/leg/essa/essanegregnoticefaqs02022016.pdf.

If you use a telecommunications device for the deaf or a text telephone, call the Federal Relay Service, toll free, at 1-800-877-8339.

SUPPLEMENTARY INFORMATION:

Background

On February 4, 2016, we published a notice in the Federal Register (81 FR 5969) announcing our intention to establish a negotiated rulemaking committee prior to publishing proposed regulations to implement part A of title I of the ESEA, as amended by the ESSA. We explained that the negotiated rulemaking committee would be convened to address proposed regulations that would: (1) Update existing assessment regulations to reflect changes to section 1111(b)(2) of the ESEA; and (2) relate to the requirement under section 1118(b) of the ESEA that title I, part A funds be used to supplement, and not supplant, non-Federal funds. In the February 4, 2016, notice, we set a schedule for three sessions of committee meetings, including an optional third session from April 18-April 19, 2016, if the committee determined that a third session would enable the committee to complete its work of developing regulations that reflect a final consensus of the committee. We also announced the date, time, and locations of the three sessions.

We now announce that the April 18, 2016, meeting of the committee will be held at a different location than indicated in the February 4, 2016, notice.

Schedule for Negotiations: The committee will meet for its third session on April 18-April 19, 2016. The committee meetings will run from 9 a.m. to 5 p.m. each day.

The April 18, 2016, committee meeting will be held at the U.S. Department of Education, Potomac Center Plaza, 550 12th Street SW., Washington, DC 22202. The April 19, 2016, committee meeting will be held at the U.S. Department of Education, 400 Maryland Avenue SW., Washington, DC 20202.

The meetings are open to the public.

Accessible Format: Individuals with disabilities can obtain this document in an accessible format (e.g., braille, large print, audiotape, or compact disc) on request to the program contact person listed under FOR FURTHER INFORMATION CONTACT.

The negotiated rulemaking meeting sites are accessible to individuals with disabilities. If you need an auxiliary aid or service to participate in the meeting (e.g., interpreting service, assistive listening device, or materials in alternative format), notify the program contact person listed under FOR FURTHER INFORMATION CONTACT in advance of the scheduled meeting date. We will make every effort to meet any request we receive.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Dated: April 12, 2016.
John B. King, Jr.,
Secretary of Education.

[FR Doc. 2016-08795 Filed 4-14-16; 8:45 am]

BILLING CODE 4000-01-P